DEPARTMENT OF COMMERCE

International Trade Administration

[A-533-848]

Commodity Matchbooks From India: Notice of Preliminary Determination of Sales at Less Than Fair Value and Postponement of Final Determination

AGENCY: Import Administration, International Trade Administration, Department of Commerce.

SUMMARY: We preliminarily determine that commodity matchbooks from India are being, or are likely to be, sold in the United States at less than fair value (LTFV), as provided in section 733(b) of the Tariff Act of 1930, as amended (the Act). The estimated margins of sales at LTFV are listed in the “Suspension of Liquidation” section of this notice. Interested parties are invited to comment on this preliminary determination. Pursuant to a request from the respondent, we are postponing for 60 days the final determination and extending provisional measures from a four-month period to not more than six months. Accordingly, we will make our final determination not later than 135 days after publication of the preliminary determination in the Federal Register.

DATES: Effective Date: June 2, 2009.

FOR FURTHER INFORMATION CONTACT: Holly Phelps or Elizabeth Eastwood, AD/CVD Operations, Office 2, Import Administration, International Trade Administration, U.S. Department of Commerce, 14th Street and Constitution Avenue, NW., Washington, DC 20230; telephone: (202) 482-0656 and (202) 482-3874, respectively.

SUPPLEMENTARY INFORMATION

Background

Since the initiation of this investigation (see Commodity Matchbooks from India: Initiation of Antidumping Duty Investigation, 73 FR 70965 (Nov. 24, 2008) (Initiation Notice)), the following events have occurred.

On December 12, 2008, the U.S. International Trade Commission (ITC) preliminarily determined that there is a reasonable indication that imports of commodity matchbooks from India are materially injuring the U.S. industry, and on December 15, 2008, the ITC notified the Department of its findings. See Commodity Matchbooks from India; Determinations, Investigation Nos. 701-TA-459 and 731-TA-1155 (Preliminary), 73 FR 77840 (Dec. 19, 2008).

In January 2009, we selected Triveni Safety Matches Pvt. Ltd. (Triveni) as the sole mandatory respondent in this investigation and issued Triveni an antidumping duty questionnaire. See Memorandum from James Maeder, Office Director, to Stephen J. Claeys, Deputy Assistant Secretary, entitled, “Antidumping Duty Investigation of Commodity Matchbooks from India: Selection of Respondents for Individual Review,” dated January 6, 2009.

In February 2009, we received Triveni's response to section A of the questionnaire (i.e., the section covering general information about the company). Also in February 2009, Triveni informed the Department that all the information submitted in its response to section A of the questionnaire may be treated as public information. In February and March 2009, we issued supplemental section A questionnaires to Triveni. In March 2009, we received Triveni's responses to these supplemental questionnaires.

Also in March 2009, Triveni submitted a response to sections B (i.e., the section covering comparison market sales), C (i.e., the section covering U.S. sales), and D (i.e., the section covering constructed value (CV)) of the questionnaire. Because these submissions were so incomplete as to be unusable, we afforded Triveni an opportunity to correct the deficiencies in its responses. At that time, we informed Triveni that it was not currently required to submit a response to section B of the questionnaire in light of the fact that Triveni reported that it had no viable comparison market for commodity matchbooks.

Also in March 2009, we received Triveni's revised response to section C of the questionnaire, as well as a revised response to section D. At that time, we informed Triveni that its revised section C response was unusable in its submitted form because it consisted of a U.S. sales listing, unaccompanied by a narrative response. Therefore, we afforded Triveni a final opportunity to submit a response to section C of the questionnaire.

Also in March 2009, the petitioner ¹ made a timely request pursuant to section 733(c)(1)(A) of the Act and 19 CFR 351.205(e) for a 50-day postponement of the preliminary determination. Therefore, pursuant to section 733(c)(1)(A) of the Act, the Department postponed the preliminary determination of this investigation until May 27, 2009. See Commodity Matchbooks from India: Notice of Extension of Time Limits for Preliminary Determination of Antidumping Duty Investigation, 74 FR 12112 (Mar. 23, 2009).

¹ The petitioner in this investigation is D.D. Bean and Sons Co.

In April 2009, we received Triveni's properly-filed response to section C of the questionnaire, and we issued supplemental questionnaires covering sections C and D to Triveni. In April and May 2009, we received Triveni's responses to these supplemental questionnaires.

On May 19, 2009, the petitioner requested that in the event of a negative preliminary determination in this investigation, the Department postpone the final determination by 60 days. On May 26, 2009, Triveni requested that in the event of an affirmative preliminary determination in this investigation, the Department: (1) Postpone its final determination by 60 days in accordance with 735(a)(2)(A) of the Act and 19 CFR 351.210(b)(2)(ii); and 2) extend the application of the provisional measures prescribed under 19 CFR 351.210(e)(2) from a four-month period to a six-month period. For further discussion, see the “Postponement of Final Determination and Extension of Provisional Measures” section of this notice, below.

Period of Investigation

The period of investigation (POI) is October 1, 2007, to September 30, 2008. This period corresponds to the four most recent fiscal quarters prior to the month of the filing of the petition. See 19 CFR 351.204(b)(1).

Scope of Investigation

The scope of this investigation covers commodity matchbooks, also known as commodity book matches, paper matches or booklet matches.² Commodity matchbooks typically, but do not necessarily, consist of twenty match stems which are usually made from paperboard or similar material tipped with a match head composed of any chemical formula. The match stems may be stitched, stapled or otherwise fastened into a matchbook cover of any material, on which a striking strip composed of any chemical formula has been applied to assist in the ignition process.

² Such commodity matchbooks are also referred to as “for resale” because they always enter into retail channels, meaning businesses that sell a general variety of tangible merchandise, e.g., convenience stores, supermarkets, dollar stores, drug stores and mass merchandisers.

Commodity matchbooks included in the scope of this investigation may or may not contain printing. For example, they may have no printing other than the identification of the manufacturer or importer. Commodity matchbooks may also be printed with a generic message such as “Thank You” or a generic image such as the American Flag, with store brands (e.g., Kroger, 7-Eleven, Shurfine or Giant); product brands for national or regional advertisers such as cigarettes or alcoholic beverages; or with corporate brands for national or regional distributors (e.g., Penley Corp. or Diamond Brands). They all enter retail distribution channels. Regardless of the materials used for the stems of the matches and regardless of the way the match stems are fastened to the matchbook cover, all commodity matchbooks are included in the scope of this investigation.

All matchbooks, including commodity matchbooks, typically comply with the United States Consumer Product Safety Commission (CPSC) Safety Standard for Matchbooks, codified at 16 CFR 1202.1 et seq.

The scope of this investigation excludes promotional matchbooks, often referred to as “not for resale,” or “specialty advertising” matchbooks, as they do not enter into retail channels and are sold to businesses that provide hospitality, dining, drinking or entertainment services to their customers, and are given away by these businesses as promotional items. Such promotional matchbooks are distinguished by the physical characteristic of having the name and/or logo of a bar, restaurant, resort, hotel, club, café/coffee shop, grill, pub, eatery, lounge, casino, barbecue or individual establishment printed prominently on the matchbook cover. Promotional matchbook cover printing also typically includes the address and the phone number of the business or establishment being promoted.³ Also excluded are all other matches that are not fastened into a matchbook cover such as wooden matches, stick matches, box matches, kitchen matches, pocket matches, penny matches, household matches, strike-anywhere matches (aka “SAW” matches), strike-on-box matches (aka “SOB” matches), fireplace matches, barbeque/grill matches, fire starters, and wax matches.

³ The gross distinctions between commodity matchbooks and promotional matchbooks may be summarized as follows: (1) If it has no printing, or is printed with a generic message such as “Thank You” or a generic image such as the American Flag, or printed with national or regional store brands or corporate brands, it is commodity; (2) if it has printing, and the printing includes the name of a bar, restaurant, resort, hotel, club, café/coffee shop, grill, pub, eatery, lounge, casino, barbecue, or individual establishment prominently displayed on the matchbook cover, it is promotional.

The merchandise subject to this investigation is properly classified under subheading 3605.00.0060 of the Harmonized Tariff Schedule of the United States (HTSUS). Subject merchandise may also enter under subheading 3605.00.0030 of the HTSUS. Although the HTSUS subheadings are provided for convenience and customs purposes, the written description of the merchandise under investigation is dispositive.

Scope Comments

In accordance with the preamble to the Department's regulations (see Antidumping Duties; Countervailing Duties, 62 FR 27296, 27323 (May 19, 1997)), in our Initiation Notice we set aside a period of time for parties to raise issues regarding product coverage, and encouraged all parties to submit comments within 20 calendar days of publication of the Initiation Notice. We did not receive any comments from parties concerning the scope of this investigation.

Fair Value Comparisons

To determine whether sales of commodity matchbooks from India to the United States were made at LTFV, we compared the export price (EP) or constructed export price (CEP) to the normal value (NV), as described in the “Export Price/Constructed Export Price” and “Normal Value” sections of this notice, below. In accordance with section 777A(d)(1)(A)(i) of the Act, we compared POI weighted-average EPs and CEPs to weighted-average NVs.

For this preliminary determination, we have determined that Triveni did not have a viable home or third country market during the POI. Therefore, as the basis for NV, we used CV when making comparisons for Triveni in accordance with section 773(a)(4) of the Act.

Export Price/Constructed Export Price

For one U.S. sale made by Triveni, we used EP methodology, in accordance with section 772(a) of the Act, because the subject merchandise was sold to the first unaffiliated purchaser in the United States prior to importation by the exporter or producer outside the United States and CEP methodology was not otherwise warranted based on the facts on the record. For the remaining U.S. sales made by Triveni, we calculated CEP, in accordance with section 772(b) of the Act, because the subject merchandise was sold for the account of Triveni by its subsidiary in the United States to unaffiliated purchasers.

Triveni reported that it sold approximately 900 cartons of Triveni Brand matchbooks (non-white printed matchbooks) to a U.S. customer as part of one of its CEP sales of plain white commodity matchbooks. Triveni stated that it is unable to link the 900 cartons of non-white printed matchbooks to a specific sale or customer. Therefore, as facts available, we have accepted Triveni's data as reported in the U.S. sales listing, and we have assigned these 900 cartons the same control number as plain white matchbooks. However, we intend to examine Triveni's record-keeping practices at verification to confirm that Triveni is unable to provide the missing sales and product characteristic information. In the event that we find that Triveni is able to link these printed matchbooks to a specific U.S. sale, we will revisit this issue in our final determination.

A. Export Price

We based EP on the packed price to an unaffiliated purchaser in the United States. We made deductions for movement expenses in accordance with section 772(c)(2)(A) of the Act; these included, where appropriate, foreign inland freight, foreign brokerage and handling expenses, ocean freight, and marine insurance.

B. Constructed Export Price

In its May 14, 2009, submission, Triveni stated that it reported as the date of shipment the date that its U.S. freight provider or its U.S. clearing agent issued an invoice to Triveni's U.S. affiliate, Triveni International LLC (TILLC). According to the documents contained in this submission, however, it appears that Triveni reported the date that the merchandise was shipped from India as the date of shipment for U.S. sales. Because we do not have accurate shipment information on the record, as facts available, we have used the earlier of the date that Triveni's U.S. freight provider issued an invoice to TILLC, or the date that Triveni's U.S. clearing agent issued an invoice to TILLC as the date of shipment for purposes of the preliminary determination. We will examine TILLC's shipping documents at verification to determine which of these dates is appropriate for use as the date of shipment for purposes of the final determination.

In accordance with our practice, we used the earlier of the shipment date calculated above, or the U.S. affiliate's invoice date, as the date of sale for CEP sales. See, e.g., Notice of Final Determination of Sales at Less Than Fair Value: Structural Steel Beams from Germany, 67 FR 35497 (May 20, 2002), and accompanying Issues and Decision Memorandum at Comment 2.

We based CEP on the packed delivered prices to unaffiliated purchasers in the United States. Where appropriate, we made adjustments for discounts. We made deductions for movement expenses, in accordance with section 772(c)(2)(A) of the Act; these included, where appropriate, foreign inland freight, foreign brokerage and handling expenses, ocean freight, marine insurance, U.S. brokerage and handling, U.S. customs duties, U.S. inland insurance, U.S. inland freight expenses (i.e., freight from warehouse to the customer), and U.S. warehousing expenses. In accordance with section 772(d)(1) of the Act and 19 CFR 351.402(b), we deducted those selling expenses associated with economic activities occurring in the United States, including direct selling expenses (i.e., imputed credit expenses and bank charges), and indirect selling expenses (including inventory carrying costs and other indirect selling expenses).

Because Triveni reported that it had no U.S. dollar borrowings during the POI, we recalculated U.S. credit expenses using the short-term interest rate published by the Federal Reserve, in accordance with our practice. See, e.g., Notice of Preliminary Determination of Sales at Less Than Fair Value and Postponement of Final Determination: Certain Cold-Rolled Carbon Steel Flat Products From Venezuela, 67 FR 31273 (May 9, 2002), unchanged in Notice of Final Determination of Sales at Less Than Fair Value: Certain Cold-Rolled Carbon Steel Flat Products From Venezuela, 67 FR 62119 (Oct. 3, 2002). In addition, we computed the credit period used in our credit recalculation using the revised dates of shipment noted above. Finally, because Triveni did not report an amount for U.S. indirect selling expenses, we computed these expenses using the total expenses and sales value shown in TILLC's 2007 financial statements, less any direct expenses reported in Triveni's responses, as facts available. For further discussion of these adjustments, see the memorandum from Holly Phelps, Analyst, to the File, entitled, “Calculations Performed for Triveni Safety Matches Pvt. Ltd. for the Preliminary Determination in the 2007-2008 Antidumping Duty Investigation of Commodity Matchbooks from India,” dated May 27, 2009.

Pursuant to section 772(d)(3) of the Act, we further reduced the starting price by an amount for profit to arrive at CEP. In accordance with section 772(f) of the Act, we calculated the CEP profit rate using the expenses incurred by Triveni and its U.S. affiliate on their sales of the subject merchandise in the United States and the profit associated with those sales.

Normal Value

A. Home Market Viability and Comparison-Market Selection

To determine whether there is a sufficient volume of sales in the home market to serve as a viable basis for calculating NV (i.e., the aggregate volume of home market sales of the foreign like product is equal to or greater than five percent of the aggregate volume of U.S. sales), we compared Triveni's volume of home market sales of the foreign like product to its volume of U.S. sales of the subject merchandise. See section 773(a)(1)(C) of the Act.

Based on this comparison, we determined that Triveni's aggregate volume of home market sales of the foreign like product was insufficient to permit a proper comparison with U.S. sales of the subject merchandise. Moreover, we determined that Triveni's volume of sales to each third country was also insufficient to permit proper comparisons. Therefore, we used CV as the basis for calculating NV for Triveni, in accordance with section 773(a)(4) of the Act.

B. Level of Trade

In accordance with section 773(a)(1)(B) of the Act, to the extent practicable, we determine NV based on sales in the comparison market at the same level of trade (LOT) as the EP or CEP. Pursuant to 19 CFR 351.412(c)(1), the NV LOT is that of the starting-price sales in the comparison market or, when NV is based on CV, that of the sales from which we derive selling, general, and administrative (SG&A) expenses and profit. For EP, the U.S. LOT is also the level of the starting-price sale, which is usually from exporter to importer. For CEP, it is the level of the constructed sale from the exporter to the importer.

To determine whether NV sales are at a different LOT than EP or CEP sales, we examine stages in the marketing process and selling functions along the chain of distribution between the producer and the unaffiliated customer. See 19 CFR 351.412(c)(2). If the comparison-market sales are at a different LOT, and the difference affects price comparability, as manifested in a pattern of consistent price differences between the sales on which NV is based and comparison market sales at the LOT of the export transaction, we make an LOT adjustment under section 773(a)(7)(A) of the Act. Finally, for CEP sales, if the NV level is more remote from the factory than the CEP level and there is no basis for determining whether the difference in levels between NV and CEP affects price comparability, we adjust NV under section 773(a)(7)(B) of the Act (the CEP-offset provision). See Citric Acid and Certain Citrate Salts from Canada: Notice of Preliminary Determination of Sales at Less Than Fair Value and Postponement of Final Determination, 73 FR 70324 (Nov. 20, 2008), unchanged in Notice of Final Determination of Sales at Less Than Fair Value: Citric Acid and Certain Citrate Salts from Canada, 74 FR 16843 (Apr. 13, 2009).

In this investigation, we found that Triveni had no viable home or third country market. When NV is based on CV, the NV LOT is that of the sales from which we derive SG&A expenses and profit. See Notice of Preliminary Determination of Sales at Less Than Fair Value and Postponement of Final Determination: Fresh Atlantic Salmon from Chile, 63 FR 2664 (Jan. 16, 1998), unchanged in Notice of Final Determination of Sales at Less Than Fair Value: Fresh Atlantic Salmon from Chile, 63 FR 31411 (June 9, 1998). In accordance with 19 CFR 351.412(d), the Department will make its LOT determination under paragraph (d)(1) of this section on the basis of sales of the foreign like product by the producer or exporter. Because it is not possible in the instant case to make an LOT determination on the basis of sales of the foreign like product in the home or third country market, the Department may use sales of different or broader product lines, sales by other companies, or any other reasonable basis. Because we based the selling expenses and profit for Triveni on the weighted-average selling expenses incurred and profits earned by another Indian producer of comparable merchandise who was not party to this investigation, there is insufficient information on the record in this investigation to allow the Department to make an LOT adjustment or grant a CEP offset to the CV reported by Triveni.

C. Calculation of Normal Value Based on CV

In accordance with section 773(a)(4) of the Act, for Triveni we based NV on CV because there was no viable home or third country market. In accordance with section 773(e) of the Act, we calculated CV based on the sum of Triveni's cost of materials and fabrication for the foreign like product, plus amounts for SG&A expenses, profit, and U.S. packing costs. We relied on the data reported by Triveni, except in the following instances:

i. We revised the numerator of Triveni's reported G&A expense ratio to include fringe benefits taxes and to exclude selling and transportation expenses as well as foreign exchange losses.

ii. We revised the numerator of Triveni's financial expense ratio to include foreign exchange losses. In addition, we disallowed the reported offset for interest income.

For further discussion of these adjustments, see the memorandum from LaVonne Clark, Accountant, to Neal Halper, Director, Office of Accounting, entitled, “Cost of Production and Constructed Value Calculation Adjustments for the Preliminary Determination—Triveni Safety Matches Pvt. Ltd.,” dated May 27, 2009 (Cost Calculation Memo).

Because Triveni does not have a viable comparison market, the Department cannot determine profit under section 773(e)(2)(A) of the Act, which requires sales by the respondent in question in the ordinary course of trade in a comparison market. Likewise, because Triveni does not have sales of any product in the same general category of products as the subject merchandise, we are unable to apply alternative (i) of section 773(e)(2)(B) of the Act. Further, the Department cannot calculate profit based on alternative (ii) of this section because Triveni is the sole respondent in this investigation and 19 CFR 351.405(b) requires that a profit ratio under this alternative be based on home market sales. Therefore, we calculated Triveni's CV profit and selling expenses based on the third alternative, any other reasonable method, in accordance with section 773(e)(2)(B)(iii) of the Act. As a result, as a reasonable method, we calculated Triveni's CV profit and selling expenses using the contemporaneous financial statements of Seshasayee Paper and Boards Limited, an Indian producer/exporter of merchandise in the same general category as commodity matchbooks (i.e., paper products). For further discussion, see the Cost

Calculation Memo

Pursuant to alternative (iii), the Department has the option of using any other reasonable method, as long as the amount allowed for profit is not greater than the amount realized by exporters or producers “in connection with the sale, for consumption in the foreign country, of merchandise that is in the same general category of products as the subject merchandise,” the “profit cap.” We are unable to calculate the profit cap in this case because, as we noted above, we do not have information allowing us to calculate the amount normally realized by exporters or producers (other than the respondent) in connection with the sale, for consumption in the foreign country, of the merchandise in the same general category. Therefore, as facts available we are applying option (iii), without quantifying a profit cap. This decision is consistent with the Department's decision in previous cases involving similar circumstances. See, e.g., Frozen Concentrated Orange Juice from Brazil; Final Results and Partial Rescission of Antidumping Duty Administrative Review, 66 FR 51008 (Oct. 5, 2001), and accompanying Issues and Decision Memorandum at Comment 3; and Notice of Final Determination of Sales at Less Than Fair Value: Pure Magnesium From Israel, 66 FR 49349 (Sept. 27, 2001), and accompanying Issues and Decision Memorandum at Comment 8. See Cost Calculation Memo.

We made no adjustments to CV for differences in circumstances of sale in accordance with sections 773(a)(6)(B)(iii) and 773(a)(8) of the Act and 19 CFR 351.410 because we had inadequate information to do so.

Currency Conversion

We made currency conversions into U.S. dollars in accordance with section 773A(a) of the Act based on the exchange rates in effect on the dates of the U.S. sales as certified by the Federal Reserve Bank.

Verification

As provided in section 782(i)(1) of the Act, we intend to verify the information relied upon in making our final determination for Triveni.

Suspension of Liquidation

In accordance with section 733(d)(2) of the Act, we will direct Customs and Border Protection (CBP) to suspend liquidation of all entries of commodity matchbooks from India that are entered, or withdrawn from warehouse, for consumption on or after the date of publication of this notice in the Federal Register. We will also instruct CBP to require a cash deposit or the posting of a bond equal to the weighted-average dumping margins, as indicated in the chart below, adjusted for export subsidies found in the preliminary determination of the companion countervailing duty investigation. See Commodity Matchbooks from India: Preliminary Affirmative Countervailing Duty Determination and Alignment of Final Countervailing Duty Determination with Final Antidumping Duty Determination, 74 FR 15444 (Apr. 6, 2009), (CVD Preliminary Notice).

Specifically, consistent with our longstanding practice, where the product under investigation is also subject to a concurrent countervailing duty investigation, we instruct CBP to require a cash deposit or posting of a bond equal to the amount by which the normal value exceeds the EP or CEP, as indicated below, less the amount of the countervailing duty determined to constitute an export subsidy. See, e.g., Notice of Final Determination of Sales at Less Than Fair Value: Carbazole Violet Pigment 23 From India, 69 FR 67306, 67307 (Nov. 17, 2007). Accordingly, for cash deposit purposes, we are subtracting from the applicable cash deposit rate that portion of the rate attributable to the export subsidies found in the affirmative countervailing duty determination for each respondent (i.e., 11.23 percent for Triveni, and 11.23 percent for “All Others”). After the adjustment for the cash deposit rates attributed to export subsidies, the resulting cash deposit rates will be 80.48 percent for Triveni and 80.48 percent for “All Others.” These instructions suspending liquidation will remain in effect until further notice.

The weighted-average dumping margins are as follows:

Manufacturer/exporter | Weighted-average margin (percent)
Triveni Safety Matches Pvt. Ltd. | 91.71
All Others | 91.71

“All Others” Rate

Section 735(c)(5)(A) of the Act provides that the estimated “All Others” rate shall be an amount equal to the weighted average of the estimated weighted-average dumping margins established for exporters and producers individually investigated, excluding any zero or de minimis margins, and any margins determined entirely under section 776 of the Act. Triveni is the only respondent in this investigation. Therefore, for purposes of determining the “All Others” rate and pursuant to section 735(c)(5)(A) of the Act, we are using the weighted-average dumping margin calculated for Triveni, as referenced above. See, e.g., Notice of Final Determination of Sales at Less Than Fair Value: Stainless Steel Sheet and Strip in Coils From Italy, 64 FR 30750, 30755 (June 8, 1999); and Notice of Preliminary Determination of Sales at Less Than Fair Value and Postponement of Final Determination: Coated Free Sheet Paper from Indonesia, 72 FR 30753, 30757 (June 4, 2007), unchanged in Notice of Final Determination of Sales at Less Than Fair Value: Coated Free Sheet Paper from Indonesia, 72 FR 60636 (Oct. 25, 2007).

Disclosure

We will disclose the calculations performed in our preliminary analysis to parties to this proceeding in accordance with 19 CFR 351.224(b).

ITC Notification

In accordance with section 733(f) of the Act, we have notified the ITC of the Department's preliminary affirmative determination. If the Department's final determination is affirmative, the ITC will determine before the later of 120 days after the date of this preliminary determination or 45 days after our final determination whether imports of commodity matchbooks from India are materially injuring, or threatening material injury to, the U.S. industry (see section 735(b)(2) of the Act). Because we are postponing the deadline for our final determination to 135 days from the date of the publication of this preliminary determination (see below), the ITC will make its final determination no later than 45 days after our final determination.

Public Comment

Interested parties are invited to comment on the preliminary determination. Interested parties may submit case briefs to the Department no later than seven days after the date of the issuance of the last verification report in this proceeding. See 19 CFR 351.309(c). Rebuttal briefs, the content of which is limited to the issues raised in the case briefs, must be filed within five days from the deadline date for the submission of case briefs. See 19 CFR 351.309(d). A list of authorities used, a table of contents, and an executive summary of issues should accompany any briefs submitted to the Department. Executive summaries should be limited to five pages total, including footnotes. In accordance with section 774 of the Act, the Department will hold a public hearing, if timely requested, to afford interested parties an opportunity to comment on arguments raised in case or rebuttal briefs, provided that such a hearing is requested by an interested party. If a timely request for a hearing is made in this investigation, we intend to hold the hearing two days after the rebuttal brief deadline date at the U.S. Department of Commerce, 14th Street and Constitution Avenue, NW., Washington, DC 20230, at a time and in a room to be determined. See 19 CFR 351.310. Parties should confirm by telephone, the date, time, and location of the hearing 48 hours before the scheduled date.

Interested parties who wish to request a hearing, or to participate in a hearing if one is requested, must submit a written request to the Assistant Secretary for Import Administration, U.S. Department of Commerce, Room 1870, within 30 days of the publication of this notice. Requests should contain: (1) The party's name, address, and telephone number; (2) the number of participants; and (3) a list of the issues to be discussed. At the hearing, oral presentations will be limited to issues raised in the briefs.

Postponement of Final Determination and Extension of Provisional Measures

Section 735(a)(2) of the Act provides that a final determination may be postponed until not later than 135 days after the date of the publication of the preliminary determination if, in the event of an affirmative preliminary determination, a request for such postponement is made by exporters, who account for a significant proportion of exports of the subject merchandise, or in the event of a negative preliminary determination, a request for such postponement is made by the petitioner. The Department's regulations, at 19 CFR 351.210(e)(2), require that requests by respondents for postponement of a final determination be accompanied by a request for extension of provisional measures from a four-month period to not more than six months.

On May 26, 2009, Triveni requested that in the event of an affirmative preliminary determination in this investigation, the Department postpone its final determination by 60 days. At the same time, Triveni requested that the Department extend the application of the provisional measures prescribed under section 733(d) of the Act and 19 CFR 351.210(e)(2), from a four-month period to a six-month period. In accordance with section 735(a)(2) of the Act and 19 CFR 351.210(b)(2), because (1) our preliminary determination is affirmative, (2) the requesting exporter accounts for a significant proportion of exports of the subject merchandise, and (3) no compelling reasons for denial exist, we are granting this request and are postponing the final determination until no later than 135 days after the publication of this notice in the Federal Register. Suspension of liquidation will be extended accordingly.

This determination is issued and published pursuant to sections 733(f) and 777(i)(1) of the Act.

Dated: May 27, 2009.
Ronald K. Lorentzen,
Acting Assistant Secretary for Import Administration.

[FR Doc. E9-12826 Filed 6-1-09; 8:45 am]

BILLING CODE 3510-DS-P